DEPARTMENT OF LABOR

Employment and Training Administration

[TA-W-56,037]

Specialty Electronics, Inc., Landrum, SC; Notice of Termination of Investigation

Pursuant to Section 221 of the Trade Act of 1974, an investigation was initiated on November 19, 2004 in response to a worker petition which was filed by a company official on behalf of workers at Specialty Electronics, Inc., Landrum, South Carolina.

The petitioner has requested that the petition be withdrawn. Consequently, the investigation has been terminated.

Signed in Washington, DC this 22nd day of November, 2004.
Richard Church,
Certifying Officer, Division of Trade Adjustment Assistance.

[FR Doc. E4-3586 Filed 12-8-04; 8:45 am]

BILLING CODE 4510-30-P